DEPARTMENT OF THE INTERIOR

Bureau of Land Management

Notice of Availability of Proposed Amendment; West Mojave Planning Area; California Desert Conservation Area Plan; Off-Road Vehicle Designations

AGENCY: Bureau of Land Management, Department of the Interior.

ACTION: Notice of availability of proposed amendment; West Mojave Planning Area; California Desert Conservation Area (CDCA) Plan; off-road vehicle designations.

SUMMARY: The California Desert District of the Bureau of Land Management (BLM) is considering off-road vehicle designations for the West Mojave Desert Planning Area in accordance with the criteria and procedures of 43 Code of Federal Regulations subpart 8342. These designations, when approved by BLM, will amend the existing designations established under the CDCA plan in the West Mojave Area. This planning area encompasses approximately 3.3 million acres of public land managed by the BLM's California Desert District, located in Inyo, Kern, Los Angeles and San Bernardino Counties in southern California.

DATES: BLM Planning Regulations (43 CFR 1610.5-2) state that any person who participated in the planning process, and has an interest that may be adversely affected, may protest. The protest must be received no later than the last day of the 30-day protest period established by the BLM California Desert District. More specific instructions and requirements for protests are contained in the SUPPLEMENTARY INFORMATION section of this notice.

SUPPLEMENTARY INFORMATION: Instructions for filing a protest with the Director of the BLM may be found at 43 CFR 1610.5. Any person who participated in the planning process and has an interest, which is or may be affected by the approval of the proposed Resource Management Plan, may protest such approval. A protest may raise only those issues that were submitted for the record during the planning process. New issues raised in the protest period should be directed to the West Mojave Project Office for consideration in plan implementation, as potential plan amendments, or as otherwise appropriate. Protests must be in writing and to be considered “timely,” the protest must be received no later than the last day of the 30-day protest period. Also, although not a requirement, it is recommended that the protest be sent by certified mail, return receipt requested. E-mail protests will not be accepted. Faxed protests will be considered as potential valid protests provided (1) that the signed faxed letter is received by the Washington Office protest coordinator by the closing date of the protest period and (2) that the protesting party also provides the original letter by either regular or overnight mail postmarked by the close of the protest period. Please direct faxed protests to “BLM Protest Coordinator” at 202-452-5112. Please direct the follow-up letter to the appropriate address provided below. The protest must contain:

i. The name, mailing address, telephone number, and interest of the person filing the protest;

ii. A statement of the issue or issues being protested;

iii. A statement of the part or parts of the plan or amendment being protested. To the extent possible, this should be done by reference to specific pages, paragraphs, sections, tables, maps, etc., included in the proposed amendment;

iv. A copy of all documents addressing the issue or issues that were submitted during the planning process by the protesting party or an indication of the date the issue or issues were discussed for the record; and

v. A concise statement explaining why the State Director's decision is believed to be wrong. This is a critical part of the protest. Take care to document all relevant facts. As much as possible, reference or cite the planning documents, environmental analysis documents, available planning records (i.e., meeting minutes or summaries, correspondence, etc.).

A protest which merely expresses disagreement with proposed decision without supporting data will not provide additional basis for the Director's review of the decision. Please note that comments, including names and street addresses of respondents, are available for public review and/or release under the Freedom of Information Act (FOIA). Individual respondents may request confidentiality.

Respondents who wish to withhold name and/or street address from public review or from disclosure under FOIA, must state this prominently at the beginning of the written comment. Such requests will be honored to the extent allowed by law. All submissions from organizations or businesses, and from individuals identifying themselves as representatives or officials or organizations or businesses, will be made available for public inspection in their entirety. The Director will promptly render a decision on the protest. The decision will be in writing and will be sent to the protesting party by certified mail, return receipt requested. The decision of the Director shall be the final decision of the Department of the Interior. File written protest by Surface mail: U.S. Department of the Interior, Bureau of Land Management, Director (210), Attn: Brenda Williams, P.O. Box 66538, Washington, DC 20035 or Overnight mail: U.S. Department of the Interior, Bureau of Land Management, Director (210), Attn: Brenda Williams, 1620 L Street, NW., Suite 1075, Washington, DC 20036.

FOR FURTHER INFORMATION CONTACT: For further information and/or to have your name added to our mailing list, contact William Haigh, Project Manager, at (760) 252-6080 (Phone), e-mail at whaigh@ca.blm.gov.

Howard Stark,
Acting Deputy State Director for Natural Resources.

[FR Doc. 03-14201 Filed 6-3-03; 8:45 am]

BILLING CODE 4310-40-P